DEPARTMENT OF COMMERCE

National Oceanic and Atmospheric Administration

50 CFR Part 679

[I.D. 062005A]

Fisheries of the Exclusive Economic Zone Off Alaska; Public Workshop

AGENCY: National Marine Fisheries Service (NMFS), National Oceanic and Atmospheric Administration (NOAA), Commerce.

ACTION: Notice of public workshop.

SUMMARY: NMFS will present a workshop on proposed catch-monitoring standards for the non-American Fisheries Act (AFA) trawl catcher/processor sector. These standards are necessary to support proposed groundfish and prohibited species allocations to this sector that are under consideration by the North Pacific Fishery Management Council.

DATES: The workshop will be held Monday, June 27, 2005, from 10 a.m. to 1 p.m.

ADDRESSES: The workshop will be held at the Nordby Center, located in Fishermen's terminal, 1711 W Nickerson St, Seattle, WA.

FOR FURTHER INFORMATION CONTACT: Alan Kinsolving, 907-586-7228.

SUPPLEMENTARY INFORMATION: The North Pacific Fisheries Management Council is developing proposed Amendment 80 to the Fishery Management Plan for Groundfish of the Bering Sea and Aleutian Islands Area (FMP). Amendment 80 would allocate prohibited species and target species other than Pacific cod and pollock to trawl catcher/processor vessels that are not qualified to fish for pollock under the AFA. One aspect of the analysis of alternatives being developed for Amendment 80 includes options for catch monitoring, weighing, and accounting standards for the non-AFA trawl catcher/processor sector. NMFS is conducting the June 27, 2005, workshop so that interested industry members may provide guidance to NMFS on the development and implementation of these standards.

This workshop is not intended to be a forum for providing public comment on the proposed rule to implement proposed Amendment 79 to the FMP. That proposed rule also would establish catch monitoring standards for some vessels within the non-AFA trawl catcher/processor sector. Written comments on Amendment 79 may be submitted to NMFS consistent with the protocol set forth in the preamble to the proposed rule published in the Federal Register on June 16, 2005 (70 FR 35054).

This workshop is physically accessible to people with disabilities. Requests for sign language interpretation or other auxiliary aids should be directed to Alan Kinsolving (see FOR FURTHER INFORMATION CONTACT).

Dated: June 20, 2005.
Alan D. Risenhoover
Acting Director, Office of Sustainable Fisheries, National Marine Fisheries Service.

[FR Doc. 05-12584 Filed 6-23-05; 8:45 am]

BILLING CODE 3510-22-S